DEPARTMENT OF STATE

[Delegation of Authority No. 361]

Delegation by the Secretary of State to the Assistant Secretary of State for Consular Affairs of the Authority To Determine That a Citizen of Iran Is Seeking To Enter the United States To Pursue an Education Relating to the Nuclear or Energy Sectors of Iran

By virtue of the authority vested in me as Secretary of State, including Section 1 of the State Department Basic Authorities Act, as amended (22 U.S.C. 2651a), and the Iran Threat Reduction and Syria Human Rights Act of 2012 (Pub. L. 112-158) (the Act), I hereby delegate to the Assistant Secretary of State for Consular Affairs, to the extent authorized by law, the authority to determine that a citizen of Iran is seeking to enter the United States to participate in coursework to prepare for a career in the energy sector of Iran or in nuclear science or nuclear engineering or a related field in Iran, as provided under section 501(a) of the Act. This authority may be re-delegated.

Any act, executive order, regulation, or procedure subject to, or affected by, this delegation shall be deemed to be such act, executive order, regulation, or procedure as amended from time to time.

Notwithstanding this delegation of authority, the Secretary, the Deputy Secretary, the Deputy Secretary for Management and Resources, and the Under Secretary for Management, may at any time exercise any authority or function delegated by this delegation of authority.

This delegation of authority shall be published in the Federal Register.

Dated: March 13, 2013.
John Forbes Kerry,
Secretary of State.

[FR Doc. 2013-17534 Filed 7-19-13; 8:45 am]

BILLING CODE 4710-06-P